DEPARTMENT OF DEFENSE

Department of the Navy

Notice of Intent To Request Comments on Alternative Procedures To Implement Advisory Council on Historic Preservation Program Act (NHPA) Section 106, Per 36 CFR 800.14(E) for Disposal of Naval Vessels

AGENCY: Department of the Navy, DOD.

ACTION: Notice of intent to request comments on implementing alternative procedures.

SUMMARY: The Department of the Navy (Navy) is requesting “Program Comments” for alternative procedures to implement the National Historic Preservation Act (NHPA) Section 106 regulations. This programmatic approach substitutes all of 36 CFR part 800 subpart B, covers a category of undertakings in lieu of individual reviews and demonstrates the Navy's compliance with its responsibilities under Section 106 of NHPA regarding the disposal of U.S. Naval vessels which have been stricken from the Naval Vessel Register (NVR) and are owned and under the physical custody of the Navy.

This document will remain in effect indefinitely. In accordance with 36 CFR 800.14(e)(6), if the Advisory Council for Historic Preservation (ACHP) determines that the consideration of NRHP eligible vessels are not being carried out in a manner consistent with this document, the ACHP may withdraw the comment and the Navy would be required to comply with the requirements of 36 CFR 800.3 through 88.7 for each adverse action.

DATES: Submit comments on or before May 20, 2006.

ADDRESSES: You may submit comments, identified by any of the following methods: E-Mail at Roderick.Speer@navy.mil, fax at 202-781-4721, or mail to: Navy Inactive Ships Program Office, 1333 Isaac Hull Avenue, SE, Washington, DC 20376.

FOR FURTHER INFORMATION CONTACT: Commander, Program Executive Office Ships (PEO SHIPS), PMS333, Inactive Ship Program Office, Ship Donation Program, ATTN: Mr. Roderick Speer, 1333 Isaac Hull Avenue SE., Stop 2701, Washington Navy Yard, DC 20376-2701, telephone 202-781-0876.

SUPPLEMENTARY INFORMATION: It is neither cost effective nor consistent with the Navy's mission to retain vessels once they have been stricken from the NVR by the Secretary of the Navy and authorized for disposal. Ship disposal actions include: Foreign Military Sales (FMS) to an allied country, title transfer to another federal agency, donation to a U.S. nonprofit organization or state or local government entity for public display as a museum and/or memorial, transfer to the U.S. Fleet for sinking as a target during at-sea live-fire training exercises, transfer to a state for sinking as an artificial reef, or for dismantling and recycling.

Vessel donations for public display as a museum or memorial and title transfers to another federal agency are not considered adverse effects subject to this document. Foreign Military Sales to an allied country, transfer to the U.S. Fleet for sinking as a target during at-sea live-fire training exercises, transfer to a state for sinking as an artificial reef, or dismantling and recycling are considered adverse effects subject to this document.

Prior to undertaking an adverse effect described above, vessels shall be reviewed by the Naval Historical Center (NHC) for eligibility for listing in the National Register of Historic Places (NRHP). Vessels determined to be eligible for listing in the NRHP shall be subject to the provisions of this document prior to undertaking an adverse effect.

Vessels included in this program include those (ships and service craft) entered in the NVR with the following exceptions:

a. Active vessels in commission or in service.

b. Vessels that have already been disposed of or lost by whatever cause, and determined to be unsalvageable.

c. Vessels retained in Navy custody for public display. i.e., USS CONSTITUTION, Historic Ship NAUTILUS (SSN 571), or ex-BARRY (DD 933), which will continue to be managed individually.

d. Vessels retained by the Navy for experimental purposes on a not-to-sink basis.

e. Vessels retained by the Navy for possible remobilization (Mobilization B).

f. Leased or chartered vessels not owned by the Navy, even if listed on the NVR.

g. Non-self-propelled service craft and boats (boats are not on the NVR).

Vessels that have already been determined to be eligible for listing in the NRHP by a process separate from this process and that are not the subject of an existing agreement established during the Section 106 consultation process will be subject to the provisions of this document as though their eligibility had been established as a result of this program. Vessels that are subject of an existing Section 106 agreement will continue to be subject to the existing agreement.

The following criteria will be used to determine whether vessels are considered eligible for listing in the NRHP:

a. Vessels that have been awarded an individual Presidential Unit Citation (granted to military units which have performed an extremely meritorious or heroic act, usually in the face of an armed enemy).

b. Vessels aboard which an individual act of heroism took place such that the individual was subsequently awarded the Medal of Honor (for valor in action against an enemy force) or the Navy Cross (for extraordinary heroism in action not justifying an award of the Medal of Honor).

c. Vessels to which a President of the United States was assigned during his or her naval service.

d. The first vessel to incorporate weapon system, engineering, or other upgrades that represent a revolutionary change in naval design or war-fighting capabilities, or other special and unique considerations.

In June of each year, the Chief of Naval Operations (CNO) undertakes a Ship Disposition Review (SDR) to determine which vessels shall be decommissioned from active service; the total each year has been averaging eight vessels. This list will be published by Naval Sea Systems Command (NAVSEASYSCOM) in the Federal Register two months after the Review, and will include the determination reached in coordination with the NHC as to which, if any, of the vessels are eligible for listing in the NRHP. During the public notice period, which shall extend sixty days from the time of publication, any member of the public may provide comments and justification to support or contradict the Navy's determinations regarding each named vessel. NAVSEASYSCOM, coordinating with the NHC, shall consider all recommendations and supporting justification received from the public in accordance with the criteria defined above before action is taken to dispose of the vessel.

The NHC shall provide final determination of eligibility of Navy vessels in accordance with the foregoing criteria. The inactive vessels inventory will be reviewed in preparation for the annual CNO, SDR conference. Vessels previously reviewed for eligibility do not require rereview unless a triggering event occurred related to the eligibility criteria.

The Navy's military mission requires that eligible vessels not stricken from the NVR continue to be fully available for naval service appropriate to each vessel's mission, including both routine and combat operations, and that they also continue to be available for modernization as necessary to keep them battle-worthy, safe, and habitable. Specifically, the Navy will employ, deploy, activate, inactivate, decommission, modify, and move such vessels without regard to their eligibility and without consultation under NHPA. The Navy's responsibilities with regard to eligible vessels are limited to the provisions of this section.

The Navy will take the following steps, (if security classification permits), regarding vessels determined to be eligible for listing in the NRHP:

a. Upon decommissioning or upon designation as eligible:

(1) Annotate the vessel's NVR entry to reflect eligibility.

(2) Unless the vessel is designated Foreign Military Sales (FMS) transfer, there are other Navy requirements for its continued use, or national security or other restrictions preclude donation, make the vessel available for donation under 10 U.S.C. 7306. The Navy's Ship Donation Program (so-named, because service craft are only rarely eligible or requested for donation) is described at http://www.navsea.navy.mil/ndp. Donation applications requirements include submission of acceptable curatorial/museum and maintenance plans among other plans for the preservation of the vessel in a condition satisfactory to the Secretary of the Navy. If a qualified donee is not identified within two years, the Navy may proceed with other disposal options.

(3) Vessels designated by the Office of the CNO for Foreign Military Sales transfer will not be made available for donation under 10 U.S.C. 7306 as Department of Defense and Department of State Security Assistance programs have a higher national priority. Such FMS transfers may occur immediately upon decommissioning from the Navy (hot-ship transfer) or may occur several years after decommissioning (cold-ship transfer). However, if NRHP eligible vessels are removed from FMS hold and designated for disposal, they will be made available for donation under 10 U.S.C. 7306 according to the preceding provision.

b. After NRHP eligible ships have been re-designated from donation hold status to disposal, and with the exception of classified information:

(1) The NHC, Ships History Branch will give priority to compiling histories of NRHP eligible vessels when preparing entries in the Dictionary of American Naval Fighting Ships.

(2) The NHC, Ships History Branch will permanently retain and provide public access to appropriate documentation from NRHP eligible vessels such as command history reports and war diaries.

(3) The NHC, Ships History Branch, will provide public access to ship deck logs under its possession. Deck logs that are more than 30 years old are transferred to the National Archives and Records Administration for permanent retention.

(4) Navy policy requires the removal of curator artifacts from all vessels being decommissioned; including citations, correspondence of significant historical value, ship histories, paintings, and photographs selected to best display the physical characteristics of the vessel (ship's silver services are retained by the Naval Supply System). The NHC, Curator Branch, will maintain these items and will consider the loan of previously removed curator artifacts or other items of potential historical importance to qualified U.S. nonprofit organizations.

(5) Within three years of designation for disposal of an NRHP eligible vessel, the Navy Inactive Ships Program Office (NISPO) will deposit with the National Archives a documentation package consisting of archivally stable media of the following items: Unclassified Booklet of General Plans and the last unclassified report of the Board of Inspection and Survey describing the material condition of the vessel.

The NISPO will submit an annual report to the Advisory ACHP on the progress of the program. The report will include the following information:

a. Names and status of vessels identified as eligible for NRHP listing.

b. Names of eligible vessels disposed of during the reporting period along with the status of documentation packages of eligible vessels that have been disposed of.

By following this document, the Navy meets its responsibilities for compliance under Section 106 concerning management of its entire inventory of inactive vessels. Accordingly, the Navy is no longer required to follow the case-by-case Section 106 review process for each individual management action affecting inactive vessels, nor to conduct consultations with the ACHP, State Historic Preservation Officer, and other preservation authorities, except as provided in this program.

The Navy may carry out management actions prior to the completion of the provisions outlined above, so long as such management actions do not preclude the eventual successful completion of these provisions.

Dated: April 20, 2006.
Eric Mcdonald,
Lieutenant Commander, Judge Advocate General's Corps, U.S. Navy, Federal Register Liaison Officer.

[FR Doc. E6-6248 Filed 4-25-06; 8:45 am]

BILLING CODE 3810-FF-P